FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants:

G.C. International Forwarding Company, 8518 Turpin Street, Rosemeade, CA 91770, George C. Cheng, Sole Proprietor

Seabright Shipping Inc., 1525 Seabright Avenue, Long Beach, CA 90803, Officer: Robert Rong Tang Wang, President (Qualifying Individual)

Non-Vessel Operating Common Carrier and Ocean Freight Forwarder Transportation Intermediary Applicants:

Codotrans, Inc., 857 Nandina Drive, Weston, FL 33327, Officers: Jaime Grullon, President (Qualifying Individual), Mayra Noboa, Director

AAC Perishables Logistics, Inc., dba A America Container Lines, 8202 NW 70th Street, Miami, FL 33166, Officers: Jairo Rivas, Manager/Secretary (Qualifying Individual), Carlos del Corral, President

Carico USA Corporation, 8378 NW 68th Street, Miami, FL 33166, Officers: Raul Amprimo, President (Qualifying Individual), Rocio Amprimo, Vice President

Ocean Freight Forwarder—Ocean Transportation Intermedidary Applicants:

Bruzzone Shipping Miami, LLC, 11421 NW 39th Street, Miami, FL 33178, Officers: Victor Bruzzone, Managing Member (Qualifying Individual) Fred Bruzzone, Member

Transportes Zuleta Inc., 6309 New Hampshire Avenue, Takoma Park, MD 20912, Officers: Jose Alfredo Munoz, President (Qualifying Individual), Delmy Zuleta, Vice President

FMD International Business Inc., dba Triton Cargo USA, 576 NW 87th Terrace, Coral Springs, FL 33071, Officer: Felipe Madrigal, General Manager (Qualifying Individual)

Bryant L. VanBrakle,
Secretary.

[FR Doc. 03-29613 Filed 11-26-03; 8:45 am]

BILLING CODE 6730-01-P